ENVIRONMENTAL PROTECTION AGENCY

40 CFR Part 372

[EPA-HQ-TRI-2019-0146; FRL-10007-23]

RIN 2070-AK53

Community Right-to-Know; Corrections to Toxics Release Inventory (TRI) Reporting Requirements

AGENCY: Environmental Protection Agency (EPA).

ACTION: Final rule.

SUMMARY: EPA is correcting existing regulatory language for the Toxics Release Inventory (TRI) Program. EPA is making corrections that update identifiers, formulas, and names for certain TRI-listed chemicals, and updating the text that identifies which chemicals the 0.1 percent de minimis concentration applies to in order to remedy a cross-reference to a no-longer-accurate Occupational Safety and Health Administration (OSHA) regulatory citation. These corrections maintain previous regulatory actions and do not alter existing reporting requirements or impact compliance burdens or costs.

DATES: This final rule is effective on July 14, 2020.

ADDRESSES: The EPA has established a docket for this action under Docket ID No. EPA-HQ-TRI-2019-0146. All documents in the docket are listed on the http://www.regulations.gov website. Although listed in the index, some information is not publicly available, e.g., Confidential Business Information (CBI) or other information whose disclosure is restricted by statute. Certain other material, such as copyrighted material, is not placed on the internet and will be publicly available only in hard copy form. Publicly available docket materials are available electronically through http://www.regulations.gov. Additional instructions on visiting the docket, along with more information about dockets generally, is available at http://www.epa.gov/dockets/commenting-epa-dockets.

FOR FURTHER INFORMATION CONTACT: For technical information contact: Daniel Bushman, Toxics Release Inventory Program Division, Mailcode 7410M, Office of Pollution Prevention and Toxics, Environmental Protection Agency, 1200 Pennsylvania Ave. NW, Washington, DC 20460-0001; telephone number: (202) 566-0743; email address: bushman.daniel@epa.gov.

For general information contact: The Emergency Planning and Community Right-to-Know Hotline; telephone numbers: toll free at (800) 424-9346 (select menu option 3) or (703) 348-5070 in the Washington, DC Area and International; or go to https://www.epa.gov/home/epa-hotlines.

SUPPLEMENTARY INFORMATION:

I. General Information

A. Does this action apply to me?

You may be potentially affected by this action if you manufacture, process, or otherwise use any TRI listed chemical. The following list of North American Industrial Classification System (NAICS) codes is not intended to be exhaustive, but rather provides a guide to help readers determine whether this document applies to them. Potentially affected entities may include:

• Facilities included in the following NAICS manufacturing codes (corresponding to Standard Industrial Classification (SIC) codes 20 through 39): 311*, 312*, 313*, 314*, 315*, 316, 321, 322, 323*, 324, 325*, 326*, 327, 331, 332, 333, 334*, 335*, 336, 337*, 339*, 111998*, 211130*, 212324*, 212325*, 212393*, 212399*, 488390*, 511110, 511120, 511130, 511140*, 511191, 511199, 512230*, 512250*, 519130*, 541713*, 541715* or 811490*. * Exceptions and/or limitations exist for these NAICS codes.

• Facilities included in the following NAICS codes (corresponding to SIC codes other than SIC codes 20 through 39): 212111, 212112, 212113 (corresponds to SIC code 12, Coal Mining (except 1241)); or 212221, 212222, 212230, 212299 (corresponds to SIC code 10, Metal Mining (except 1011, 1081, and 1094)); or 221111, 221112, 221113, 221118, 221121, 221122, 221330 (limited to facilities that combust coal and/or oil for the purpose of generating power for distribution in commerce) (corresponds to SIC codes 4911, 4931, and 4939, Electric Utilities); or 424690, 425110, 425120 (limited to facilities previously classified in SIC code 5169, Chemicals and Allied Products, Not Elsewhere Classified); or 424710 (corresponds to SIC code 5171, Petroleum Bulk Terminals and Plants); or 562112 (limited to facilities primarily engaged in solvent recovery services on a contract or fee basis (previously classified under SIC code 7389, Business Services, NEC)); or 562211, 562212, 562213, 562219, 562920 (limited to facilities regulated under the Resource Conservation and Recovery Act, subtitle C, 42 U.S.C. 6921 et seq.) (corresponds to SIC code 4953, Refuse Systems).

• Federal facilities.

A more detailed description of the types of facilities covered by the NAICS codes subject to reporting under EPCRA section 313 can be found at: https://www.epa.gov/toxics-release-inventory-tri-program/tri-covered-industry-sectors. To determine whether your facility would be affected by this action, you should carefully examine the applicability criteria in part 372, subpart B, of title 40 of the Code of Federal Regulations (CFR). Federal facilities are required to report under Executive Order 13834 (https://www.govinfo.gov/content/pkg/FR-2018-05-22/pdf/2018-11101.pdf) as explained in the Implementing Instructions from the Council on Environmental Quality (https://www.sustainability.gov/pdfs/eo13834_instructions.pdf). If you have questions regarding the applicability of this action to a particular entity, consult the person listed under FOR FURTHER INFORMATION CONTACT.

B. What action is the Agency taking?

EPA is correcting existing regulatory language for the TRI Program. EPA is making (a) editorial corrections that update identifiers, formulas, and names for certain TRI-listed chemicals described in the CFR, and (b) updating the text to indicate for which chemicals the 0.1 percent de minimis concentration applies to remedy a cross-reference to a no-longer-accurate OSHA regulatory citation. This action does not change the regulatory requirements of the TRI Program. This action is a “housekeeping” rulemaking intended to correct inaccuracies in regulatory text.

C. What is the Agency's authority for taking these actions?

EPA is taking these actions under sections 313(g)(1) and 328 of the Emergency Planning and Community Right-to-Know Act (EPCRA), 42 U.S.C. 11023(g)(1) and 11048. In general, EPCRA section 313 requires owners and operators of covered facilities in specified SIC codes that manufacture, process, or otherwise use listed toxic chemicals in amounts above specified threshold levels to report certain facility specific information about such chemicals, including the annual releases and other waste management quantities. EPCRA section 313(g)(1) requires EPA to publish a uniform toxic chemical release form for these reporting purposes, and it also prescribes, in general terms, the types of information that must be submitted on the form. Congress also granted EPA broad rulemaking authority to allow the Agency to fully implement the statute. EPCRA section 328 states that: “The Administrator may prescribe such regulations as may be necessary to carry out this chapter.” 42 U.S.C. 11048.

II. Summary of Proposed Rule

In the proposed rule (84 FR 65739, November 29, 2019) (FRL-9995-92), EPA proposed corrections that updated identifiers, formulas, and names for certain TRI-listed chemicals described in the CFR. Specifically, EPA proposed to: (i) Remove chemical names for those chemicals that have been delisted or moved to other listings; (ii) Incorporate listings in 40 CFR 372.65(b) for chemicals that are listed in 40 CFR 372.65(a) but are not listed in 40 CFR 372.65(b); (iii) Correct inaccurate Chemical Abstracts Service Registry Numbers (CASRNs); (iv) Correct errors in chemical category definitions; (v) Remedy other known errors in the CFR chemical lists; (vi) Remove leading zeros from CASRNs; (vii) Correct errors in the list of lower thresholds for chemicals of special concern; and (viii) Revise the list of chemical names to include only the TRI primary name and the EPA registry name (if different from the TRI primary name) as a synonym. In addition, EPA proposed to replace an existing outdated cross-referenced regulatory citation and modify the text of the de minimis exemption, without changing the substance of the exemption itself.

The proposed changes included removing ammonium nitrate (solution) (CASRN: 6484-52-2), ammonium sulfate (solution) (CASRN: 7783-20-2), and flumetralin (CASRN: 62924-70-3) from the chemical lists. EPA also proposed to remove methylenebis(phenylisocyanate) (MDI) (CASRN: 101-68-8) as an individually listed chemical because it is part of the diisocyanates category. EPA proposed to add two chemicals, toluene-2,4-diisocyanate (2,4-TDI) (CASRN: 584-84-9) and vinyl bromide (CASRN: 593-60-2), to the CASRN ordered list at 40 CFR 372.65(b), these two were missing from 40 CFR 372.65(b) but were included in the alphabetical ordered listing at 40 CFR 372.65(a). The proposed rule included corrections to the CASRNs for phosphorus (yellow or white) and d-trans-allethrin as well as corrections to the category definitions for the cyanide compounds category and the polychlorinated alkanes category. EPA proposed to correct footnotes for 2,2-dibromo-3-nitrilopropionamide (DBNPA) (CASRN: 10222-01-2) and methyl mercaptan (74-93-1) which are on the list but not currently reportable. EPA proposed to fix the placement of the chemical structure for the polybrominated biphenyls (PBBs) category which appears out of place in the CFR. EPA proposed to remove leading zeros from the CASRNs for a number of listed chemicals. EPA proposed to fix errors in and simplify the table for lower thresholds for chemicals of special concern at 40 CFR 372.28(a)(2). EPA proposed to revise the EPCRA section 313 chemical list by including only the primary chemical name, even if it is a common trade name, and removing most secondary names (the only secondary names that would remain are the EPA registry names from EPA's Substance Registry Services (SRS)). The last proposed change was to update the text of the de minimis exemption at 40 CFR 372.38(a) to remove a regulatory citation that no longer exists. For details about these changes please consult the proposed rule (84 FR 65739, November 29, 2019) (FRL-9995-92).

III. What comments did EPA receive on the proposed rule?

EPA received no substantive comments.

IV. Summary of Final Rule

EPA made no substantive changes from what was included in the proposed rule, however, the final rule reflects the following corrections to what was proposed:

• In the proposed regulatory text, the polychlorinated alkanes definition included the formula as “CxH2x-y+2Cly,” whereas in this final rule, the “+2” has been changed to a subscript. Also, in the polychlorinated alkanes definition in the proposed rule, one of the molecular formulas had a typo; specifically, “C10H19C13” has been corrected to read “C10H19Cl3.”

• In the proposed rule, two chemicals in the list of the chemicals included in the polycyclic aromatic compounds category, 1,6-dinitropyrene and 1,8-dinitropyrene, were missing the last digits in their CARSNs. In this final rule, those two chemicals have been corrected to read “42397-64-8” for 1,6-dinitropyrene and “42397-65-9” for 1,8-dinitropyrene.

• This final rule adds EPA registry names for the chemicals 1,4-bis(methylisocyanate)cyclohexane (CASRN 10347-54-3), benzo[a]phenanthrene (CASRN 218-01-9), benzo[j,k]fluorene (CASRN 206-44-0), benzo[r,s,t]pentaphene (CASRN 189-55-9), and dibenzo[a,h]anthracene (CASRN 53-70-3).

• This final rule corrects the name for 1,2,3,4,7,8-hexachlorodibenzofuran (CARN 70648-26-9) which was missing the “i” between the “d” and “b.”

• This final rule corrects some minor issues such as the removal of some extra spaces in some chemical names.

• This final rule leaves the note concerning the stay for methyl mercaptan where it is (at the bottom of 40 CFR 372.65), and does not add a footnote marker next to the listing of the chemical in 40 CFR 372.65(a) & (b).

V. References

EPA has established an official public docket for this action under Docket ID No. EPA-HQ-TRI-2019-0146. The public docket includes information considered by EPA in developing this action, including the document listed below, which is electronically or physically located in the docket.

• USEPA. Proposed Changes to the Toxic Release Inventory (TRI) Chemical List, March 18, 2019.

VI. Statutory and Executive Order Reviews

Additional information about these statutes and Executive orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review under Executive Orders 12866 (58 FR 51735, October 4, 1993) and 13563 (76 FR 3821, January 21, 2011).

B. Executive Order 13771: Reducing Regulations and Controlling Regulatory Costs

This action is not expected to be an Executive Order 13771 (82 FR 9339) regulatory action because this action is not significant under Executive Order 12866.

C. Paperwork Reduction Act (PRA)

This action does not impose any new information collection burden. Facilities that are affected by this action are already required to report for the chemicals impacted by this action under EPCRA section 313 and section 6607 of the Pollution Prevention Act (PPA), 42 U.S.C. 13101 et seq. OMB has previously approved the information collection requirements contained in 40 CFR part 372 under the provisions of the PRA, 44 U.S.C. 3501 et seq., and has assigned OMB control number 2025-0009 (EPA ICR No. 1363.21) for Form R and Form A.

Under the PRA, an agency may not conduct or sponsor, and a person is not required to respond to, a collection of information unless it displays a currently valid OMB control number. The OMB control numbers are displayed either by publication in the Federal Register or by other appropriate means, such as on the related collection instrument or form, if applicable. The OMB control numbers for EPA's regulations in 40 CFR are listed in 40 CFR part 9.

D. Regulatory Flexibility Act (RFA)

Pursuant to the RFA section 605(b), 5 U.S.C. 601 et seq., I certify that this action will not have a significant economic impact on a substantial number of small entities. In making this determination, the impact of concern is any significant adverse economic impact on small entities. An agency may certify that a rule will not have a significant economic impact on a substantial number of small entities if the rule relieves regulatory burden, has no net burden or otherwise has a positive economic effect on the small entities subject to the rule. This rule adds no new reporting requirements, and there will be no increase in respondent burden or costs. This rule will not impose any requirements on reporting entities, including small entities.

E. Unfunded Mandates Reform Act (UMRA)

This action does not contain any unfunded mandate as described in UMRA, 2 U.S.C. 1531-1538, and does not significantly or uniquely affect small governments. The action will impose no enforceable duty on any state, local or tribal governments or the private sector.

F. Executive Order 13132: Federalism

This action does not have federalism implications, as specified in Executive Order 13132 (64 FR 43255, August 10, 1999). It will not have substantial direct effects on the states, on the relationship between the National Government and the states, or on the distribution of power and responsibilities among the various levels of government.

G. Executive Order 13175: Consultation and Coordination With Indian Tribal Governments

This action does not have tribal implications as specified in Executive Order 13175 (65 FR 67249, November 9, 2000). This rule will not impose substantial direct compliance costs on Indian tribal governments. Thus, Executive Order 13175 does not apply to this action.

H. Executive Order 13045: Protection of Children From Environmental Health Risks and Safety Risks

EPA interprets Executive Order 13045 (62 FR 19885, April 23, 1997) as applying only to those regulatory actions that concern health or safety risks, such that the analysis required under section 5-501 of Executive Order 13045 has the potential to influence the regulation. This action is not subject to Executive Order 13045 because it does not establish an environmental standard intended to mitigate health or safety risks.

I. Executive Order 13211: Actions Concerning Regulations That Significantly Affect Energy Supply, Distribution, or Use

This action is not a “significant energy action” as defined in Executive Order 13211 (66 FR 28355, May 22, 2001), because it is not likely to have a significant adverse effect on the supply, distribution or use of energy.

J. National Technology Transfer and Advancement Act (NTTAA)

This rulemaking does not involve technical standards that would require Agency consideration under NTTAA section 12(d), 15 U.S.C. 272 note.

K. Executive Order 12898: Federal Actions To Address Environmental Justice in Minority Populations and Low-Income Populations

This action does not entail special considerations of environmental justice related issues as delineated by Executive Order 12898 (59 FR 7629, February 16, 1994), because it does not establish an environmental health or safety standard. This action involves corrections that do not change the reporting requirements or otherwise affect the level of protection provided to human health or the environment.

L. Congressional Review Act (CRA)

This action is subject to the CRA, and the EPA will submit a rule report to each House of the Congress and to the Comptroller General of the United States. This action is not a “major rule” as defined by 5 U.S.C. 804(2).

List of Subjects in 40 CFR Part 372

Environmental protection, Community right-to-know, Reporting and recordkeeping requirements, Toxic chemicals.

Dated: May 18, 2020.
Alexandra Dapolito Dunn,
Assistant Administrator, Office of Chemical Safety and Pollution Prevention.

Therefore, EPA amends 40 CFR chapter I as follows:

PART 372—[AMENDED]

1. The authority citation for part 372 continues to read as follows:

Authority: 42 U.S.C. 11023 and 11048.

2. In § 372.28:

a. Add a heading for the table in paragraph (a)(1).

b. Revise the table in paragraph (a)(2).

The addition and revision read as follows:

§ 372.28 Lower thresholds for chemicals of special concern.

* * * * *

(a) * * *

(1) * * *

Table 1 to Paragraph (a)(1)

* * * * *

(2) * * *

Table 2 to Paragraph (a)(2)
Category name | Reporting threshold (in pounds unless otherwise noted)
Dioxin and dioxin-like compounds (Manufacturing; and the processing or otherwise use of dioxin and dioxin-like compounds if the dioxin and dioxin-like compounds are present as contaminants in a chemical and if they were created during the manufacturing of that chemical) (see § 372.65(c) for a list of chemicals covered by this category) | 0.1 grams.
Hexabromocyclododecane (see § 372.65(c) for a list of chemicals covered by this category) | 100
Lead Compounds | 100
Mercury compounds | 10
Polycyclic aromatic compounds (PACs) (see § 372.65(c) for a list of chemicals covered by this category) | 100

* * * * *

3. In § 372.38, revise paragraph (a) to read as follows:

§ 372.38 Exemptions.

(a) De minimis concentrations of a toxic chemical in a mixture. (1) If a toxic chemical is present in a mixture of chemicals at a covered facility and the toxic chemical is in a concentration in the mixture which is below 1 percent of the mixture, or 0.1 percent of the mixture in the case of a toxic chemical which is a carcinogen, a person is not required to consider the quantity of the toxic chemical present in such mixture when determining whether an applicable threshold has been met under § 372.25 or determining the amount of release to be reported under § 372.30. For purposes of the exemption in this paragraph (a), the following sources establish a chemical as a carcinogen or potential carcinogen:

(i) National Toxicology Program (NTP), Annual Report on Carcinogens (latest edition);

(ii) International Agency for Research on Cancer (IARC) Monographs (latest editions); or

(iii) 29 CFR part 1910, subpart Z, Toxic and Hazardous Substances, Occupational Safety and Health Administration.

(2) The exemption in this paragraph (a) applies whether the person received the mixture from another person, or the person produced the mixture, either by mixing the chemicals involved or by causing a chemical reaction which resulted in the creation of the toxic chemical in the mixture. However, this exemption applies only to the quantity of the toxic chemical present in the mixture. If the toxic chemical is also manufactured (including imported), processed, or otherwise used at the covered facility other than as part of the mixture or in a mixture at higher concentrations, in excess of an applicable threshold quantity set forth in § 372.25, the person is required to report under § 372.30. This exemption does not apply to toxic chemicals listed in § 372.28, except for purposes of § 372.45(d)(1).

* * * * *

4. In § 372.65:

a. In the table in paragraph (a):

i. Add a table heading.

ii. Revise the entries “Abamectin” through “2-Methyllactonitrile”.

iii. Remove the entries “Methyl acrylate” through “Methyl isocyanate”.

iv. Revise the entries “Methyl methacrylate” through “Zineb”.

v. Remove the notes to the table and add footnote 1.

b. In the table in paragraph (b):

i. Add a table heading.

ii. Revise the entries “50-00-0” through “74-90-8” and “74-95-3” through “136013-79-1”.

iii. Remove the notes to the table and add footnote 1.

c. Revise the table in paragraph (c).

The additions and revisions read as follows:

§ 372.65 Chemicals and chemical categories to which this part applies.

* * * * *

(a) * * *

Table 1 to Paragraph (a)
Chemical name | CAS No. | Effective date
Abamectin | 71751-41-2 | 1/1/95
Acephate | 30560-19-1 | 1/1/95
Acetaldehyde | 75-07-0 | 1/1/87
Acetamide | 60-35-5 | 1/1/87
Acetonitrile | 75-05-8 | 1/1/87
Acetophenone | 98-86-2 | 1/1/94
2-Acetylaminofluorene | 53-96-3 | 1/1/87
Acifluorfen, sodium salt | 62476-59-9 | 1/1/95
Acrolein | 107-02-8 | 1/1/87
Acrylamide | 79-06-1 | 1/1/87
Acrylic acid | 79-10-7 | 1/1/87
Acrylonitrile | 107-13-1 | 1/1/87
Alachlor | 15972-60-8 | 1/1/95
Aldicarb | 116-06-3 | 1/1/95
Aldrin | 309-00-2 | 1/1/87
d-trans-Allethrin | 28434-00-6 | 1/1/95
Allyl alcohol | 107-18-6 | 1/1/90
Allylamine | 107-11-9 | 1/1/95
Allyl chloride | 107-05-1 | 1/1/87
Aluminum (fume or dust) | 7429-90-5 | 1/1/87
Aluminum oxide (fibrous forms) (Alumina) | 1344-28-1 | 1/1/87
Aluminum phosphide | 20859-73-8 | 1/1/95
Ametryn | 834-12-8 | 1/1/95
2-Aminoanthraquinone | 117-79-3 | 1/1/87
4-Aminoazobenzene | 60-09-3 | 1/1/87
4-Aminobiphenyl | 92-67-1 | 1/1/87
1-Amino-2,4-dibromoanthraquinone | 81-49-2 | 1/1/11
1-Amino-2-methylanthraquinone | 82-28-0 | 1/1/87
Amitraz | 33089-61-1 | 1/1/95
Amitrole | 61-82-5 | 1/1/94
Ammonia (includes anhydrous ammonia and aqueous ammonia from water dissociable ammonium salts and other sources; 10 percent of total aqueous ammonia is reportable under this listing) | 7664-41-7 | 1/1/87
Anilazine | 101-05-3 | 1/1/95
Aniline | 62-53-3 | 1/1/87
o-Anisidine | 90-04-0 | 1/1/87
p-Anisidine | 104-94-9 | 1/1/87
o-Anisidine hydrochloride | 134-29-2 | 1/1/87
Anthracene | 120-12-7 | 1/1/87
Antimony | 7440-36-0 | 1/1/87
Arsenic | 7440-38-2 | 1/1/87
Asbestos (friable) | 1332-21-4 | 1/1/87
Atrazine | 1912-24-9 | 1/1/95
Barium | 7440-39-3 | 1/1/87
Bendiocarb | 22781-23-3 | 1/1/95
Benfluralin | 1861-40-1 | 1/1/95
Benomyl | 17804-35-2 | 1/1/95
Benzal chloride | 98-87-3 | 1/1/87
Benzamide | 55-21-0 | 1/1/87
Benzene | 71-43-2 | 1/1/87
Benzidine | 92-87-5 | 1/1/87
Benzo[g,h,i]perylene | 191-24-2 | 1/1/00
Benzoic trichloride (Benzotrichloride) | 98-07-7 | 1/1/87
Benzoyl chloride | 98-88-4 | 1/1/87
Benzoyl peroxide | 94-36-0 | 1/1/87
Benzyl chloride | 100-44-7 | 1/1/87
Beryllium | 7440-41-7 | 1/1/87
Bifenthrin | 82657-04-3 | 1/1/95
Biphenyl | 92-52-4 | 1/1/87
2,2-Bis(bromomethyl)-1,3-propanediol | 3296-90-0 | 1/1/11
Bis(2-chloroethoxy)methane | 111-91-1 | 1/1/94
Bis(2-chloroethyl) ether | 111-44-4 | 1/1/87
Bis(chloromethyl) ether | 542-88-1 | 1/1/87
Bis(2-chloro-1-methylethyl) ether | 108-60-1 | 1/1/87
Bis(tributyltin) oxide | 56-35-9 | 1/1/95
Boron trichloride | 10294-34-5 | 1/1/95
Boron trifluoride | 7637-07-2 | 1/1/95
Bromacil | 314-40-9 | 1/1/95
Bromacil, lithium salt | 53404-19-6 | 1/1/95
Bromine | 7726-95-6 | 1/1/95
1-Bromo-1-(bromomethyl)-1,3-propanedicarbonitrile | 35691-65-7 | 1/1/95
Bromochlorodifluoromethane (Halon 1211) | 353-59-3 | 7/8/90
Bromoform (Tribromomethane) | 75-25-2 | 1/1/87
Bromomethane (Methyl bromide) | 74-83-9 | 1/1/87
1-Bromopropane | 106-94-5 | 1/1/16
Bromotrifluoromethane (Halon 1301) | 75-63-8 | 7/8/90
Bromoxynil | 1689-84-5 | 1/1/95
Bromoxynil octanoate | 1689-99-2 | 1/1/95
Brucine | 357-57-3 | 1/1/95
1,3-Butadiene | 106-99-0 | 1/1/87
Butyl acrylate | 141-32-2 | 1/1/87
n-Butyl alcohol (1-Butanol) | 71-36-3 | 1/1/87
sec-Butyl alcohol (2-Butanol) | 78-92-2 | 1/1/87
tert-Butyl alcohol (tert-Butanol) | 75-65-0 | 1/1/87
1,2-Butylene oxide | 106-88-7 | 1/1/87
Butyraldehyde | 123-72-8 | 1/1/87
C.I. Acid Green 3 | 4680-78-8 | 1/1/87
C.I. Acid Red 114 | 6459-94-5 | 1/1/95
C.I. Basic Green 4 (Malachite green) | 569-64-2 | 1/1/87
C.I. Basic Red 1 | 989-38-8 | 1/1/87
C.I. Direct Black 38 | 1937-37-7 | 1/1/87
C.I. Direct Blue 6 | 2602-46-2 | 1/1/87
C.I. Direct Blue 218 | 28407-37-6 | 1/1/95
C.I. Direct Brown 95 | 16071-86-6 | 1/1/87
C.I. Disperse Yellow 3 | 2832-40-8 | 1/1/87
C.I. Food Red 5 | 3761-53-3 | 1/1/87
C.I. Food Red 15 (Rhodamine B) | 81-88-9 | 1/1/87
C.I. Solvent Orange 7 | 3118-97-6 | 1/1/87
C.I. Solvent Yellow 3 | 97-56-3 | 1/1/87
C.I. Solvent Yellow 14 | 842-07-9 | 1/1/87
C.I. Solvent Yellow 34 (Auramine) | 492-80-8 | 1/1/87
C.I. Vat Yellow 4 | 128-66-5 | 1/1/87
Cadmium | 7440-43-9 | 1/1/87
Calcium cyanamide | 156-62-7 | 1/1/87
Captan | 133-06-2 | 1/1/87
Carbaryl | 63-25-2 | 1/1/87
Carbofuran | 1563-66-2 | 1/1/95
Carbon disulfide | 75-15-0 | 1/1/87
Carbon tetrachloride | 56-23-5 | 1/1/87
Carbonyl sulfide | 463-58-1 | 1/1/87
Carboxin | 5234-68-4 | 1/1/95
Catechol | 120-80-9 | 1/1/87
Chinomethionate | 2439-01-2 | 1/1/95
Chloramben | 133-90-4 | 1/1/87
Chlordane | 57-74-9 | 1/1/87
Chlorendic acid | 115-28-6 | 1/1/95
Chlorimuron-ethyl | 90982-32-4 | 1/1/95
Chlorine | 7782-50-5 | 1/1/87
Chlorine dioxide | 10049-04-4 | 1/1/87
Chloroacetic acid | 79-11-8 | 1/1/87
2-Chloroacetophenone | 532-27-4 | 1/1/87
1-(3-Chloroallyl)-3,5,7-triaza-1-azoniaadamantane chloride | 4080-31-3 | 1/1/95
p-Chloroaniline | 106-47-8 | 1/1/95
Chlorobenzene | 108-90-7 | 1/1/87
Chlorobenzilate | 510-15-6 | 1/1/87
1-Chloro-1,1-difluoroethane (HCFC-142b) | 75-68-3 | 1/1/94
Chlorodifluoromethane (HCFC-22) | 75-45-6 | 1/1/94
Chloroethane | 75-00-3 | 1/1/87
Chloroform | 67-66-3 | 1/1/87
Chloromethane | 74-87-3 | 1/1/87
Chloromethyl methyl ether | 107-30-2 | 1/1/87
3-Chloro-2-methyl-1-propene | 563-47-3 | 1/1/95
p-Chlorophenyl isocyanate | 104-12-1 | 1/1/95
Chloropicrin | 76-06-2 | 1/1/95
Chloroprene | 126-99-8 | 1/1/87
3-Chloropropionitrile | 542-76-7 | 1/1/95
Chlorotetrafluoroethane | 63938-10-3 | 1/1/94
1-Chloro-1,1,2,2-tetrafluoroethane (HCFC-124a) | 354-25-6 | 1/1/94
2-Chloro-1,1,1,2-tetrafluoroethane (HCFC-124) | 2837-89-0 | 1/1/94
Chlorothalonil | 1897-45-6 | 1/1/87
p-Chloro-o-toluidine (4-Chloro-2-methylaniline) | 95-69-2 | 1/1/95
2-Chloro-1,1,1-trifluoroethane (HCFC-133a) | 75-88-7 | 1/1/95
Chlorotrifluoromethane (CFC-13) | 75-72-9 | 1/1/95
3-Chloro-1,1,1-trifluoropropane (HCFC-253fb) | 460-35-5 | 1/1/95
Chlorpyrifos-methyl | 5598-13-0 | 1/1/95
Chlorsulfuron | 64902-72-3 | 1/1/95
Chromium | 7440-47-3 | 1/1/87
Cobalt | 7440-48-4 | 1/1/87
Copper | 7440-50-8 | 1/1/87
Creosote | 8001-58-9 | 1/1/90
p-Cresidine | 120-71-8 | 1/1/87
Cresol (mixed isomers) | 1319-77-3 | 1/1/87
m-Cresol | 108-39-4 | 1/1/87
o-Cresol | 95-48-7 | 1/1/87
p-Cresol | 106-44-5 | 1/1/87
Crotonaldehyde | 4170-30-3 | 1/1/95
Cumene | 98-82-8 | 1/1/87
Cumene hydroperoxide | 80-15-9 | 1/1/87
Cupferron | 135-20-6 | 1/1/87
Cyanazine | 21725-46-2 | 1/1/95
Cycloate | 1134-23-2 | 1/1/95
Cyclohexane | 110-82-7 | 1/1/87
Cyclohexanol | 108-93-0 | 1/1/95
Cyfluthrin | 68359-37-5 | 1/1/95
Cyhalothrin | 68085-85-8 | 1/1/95
2,4-D | 94-75-7 | 1/1/87
Dazomet | 533-74-4 | 1/1/95
Dazomet, sodium salt | 53404-60-7 | 1/1/95
2,4-DB | 94-82-6 | 1/1/95
2,4-D 2-butoxyethyl ester | 1929-73-3 | 1/1/95
2,4-D butyl ester | 94-80-4 | 1/1/95
2,4-D chlorocrotyl ester | 2971-38-2 | 1/1/95
Decabromodiphenyl oxide | 1163-19-5 | 1/1/87
Desmedipham | 13684-56-5 | 1/1/95
2,4-D 2-ethylhexyl ester | 1928-43-4 | 1/1/95
2,4-D 2-ethyl-4-methylpentyl ester | 53404-37-8 | 1/1/95
Diallate | 2303-16-4 | 1/1/87
2,4-Diaminoanisole | 615-05-4 | 1/1/87
2,4-Diaminoanisole sulfate | 39156-41-7 | 1/1/87
4,4′-Diaminodiphenyl ether | 101-80-4 | 1/1/87
Diaminotoluene (mixed isomers) (Toluenediamine) | 25376-45-8 | 1/1/87
2,4-Diaminotoluene (2,4-Toluenediamine) | 95-80-7 | 1/1/87
Diazinon | 333-41-5 | 1/1/95
Diazomethane | 334-88-3 | 1/1/87
Dibenzofuran | 132-64-9 | 1/1/87
1,2-Dibromo-3-chloropropane | 96-12-8 | 1/1/87
2,2-Dibromo-3-nitrilopropionamide ¹ | 10222-01-2 | 1/1/95
1,2-Dibromoethane (Ethylene dibromide) | 106-93-4 | 1/1/87
Dibromotetrafluoroethane (1,2-Dibromo-1,1,2,2-tetrafluoroethane) | 124-73-2 | 7/8/90
Dibutyl phthalate | 84-74-2 | 1/1/87
Dicamba | 1918-00-9 | 1/1/95
Dichloran | 99-30-9 | 1/1/95
Dichlorobenzene (mixed isomers) | 25321-22-6 | 1/1/87
1,2-Dichlorobenzene (o-Dichlorobenzene) | 95-50-1 | 1/1/87
1,3-Dichlorobenzene (m-Dichlorobenzene) | 541-73-1 | 1/1/87
1,4-Dichlorobenzene (p-Dichlorobenzene) | 106-46-7 | 1/1/87
3,3′-Dichlorobenzidine | 91-94-1 | 1/1/87
3,3′-Dichlorobenzidine dihydrochloride | 612-83-9 | 1/1/95
3,3′-Dichlorobenzidine sulfate | 64969-34-2 | 1/1/95
Dichlorobromomethane | 75-27-4 | 1/1/87
1,4-Dichloro-2-butene | 764-41-0 | 1/1/94
trans-1,4-Dichloro-2-butene | 110-57-6 | 1/1/95
1,2-Dichloro-1,1-difluoroethane (HCFC-132b) | 1649-08-7 | 1/1/95
Dichlorodifluoromethane (CFC-12) | 75-71-8 | 7/8/90
1,2-Dichloroethane | 107-06-2 | 1/1/87
1,2-Dichloroethylene | 540-59-0 | 1/1/87
1,1-Dichloro-1-fluoroethane (HCFC-141b) | 1717-00-6 | 1/1/94
Dichlorofluoromethane (HCFC-21) | 75-43-4 | 1/1/95
Dichloromethane (Methylene chloride) | 75-09-2 | 1/1/87
Dichloropentafluoropropane | 127564-92-5 | 1/1/95
1,1-Dichloro-1,2,2,3,3-pentafluoropropane (HCFC-225cc) | 13474-88-9 | 1/1/95
1,1-Dichloro-1,2,3,3,3-pentafluoropropane (HCFC-225eb) | 111512-56-2 | 1/1/95
1,2-Dichloro-1,1,2,3,3-pentafluoropropane (HCFC-225bb) | 422-44-6 | 1/1/95
1,2-Dichloro-1,1,3,3,3-pentafluoropropane (HCFC-225da) | 431-86-7 | 1/1/95
1,3-Dichloro-1,1,2,2,3-pentafluoropropane (HCFC-225cb) | 507-55-1 | 1/1/95
1,3-Dichloro-1,1,2,3,3-pentafluoropropane (HCFC-225ea) | 136013-79-1 | 1/1/95
2,2-Dichloro-1,1,1,3,3-pentafluoropropane (HCFC-225aa) | 128903-21-9 | 1/1/95
2,3-dichloro-1,1,1,2,3-pentafluoropropane (HCFC-225ba) | 422-48-0 | 1/1/95
3,3-Dichloro-1,1,1,2,2-pentafluoropropane (HCFC-225ca) | 422-56-0 | 1/1/95
Dichlorophene | 97-23-4 | 1/1/95
2,4-Dichlorophenol | 120-83-2 | 1/1/87
1,2-Dichloropropane | 78-87-5 | 1/1/87
2,3-Dichloropropene | 78-88-6 | 1/1/90
trans-1,3-Dichloropropene | 10061-02-6 | 1/1/95
1,3-Dichloropropylene (1,3-Dichloropropene) | 542-75-6 | 1/1/87
Dichlorotetrafluoroethane (CFC-114) | 76-14-2 | 7/8/90
Dichlorotrifluoroethane | 34077-87-7 | 1/1/94
Dichloro-1,1,2-trifluoroethane | 90454-18-5 | 1/1/94
1,1-Dichloro-1,2,2-trifluoroethane (HCFC-123b) | 812-04-4 | 1/1/94
1,2-Dichloro-1,1,2-trifluoroethane (HCFC-123a) | 354-23-4 | 1/1/94
2,2-Dichloro-1,1,1-trifluoroethane (HCFC-123) | 306-83-2 | 1/1/94
Dichlorvos | 62-73-7 | 1/1/87
Diclofop methyl | 51338-27-3 | 1/1/95
Dicofol | 115-32-2 | 1/1/87
Dicyclopentadiene | 77-73-6 | 1/1/95
Diepoxybutane | 1464-53-5 | 1/1/87
Diethanolamine | 111-42-2 | 1/1/87
Diethatyl ethyl | 38727-55-8 | 1/1/95
Di(2-ethylhexyl) phthalate | 117-81-7 | 1/1/87
Diethyl sulfate | 64-67-5 | 1/1/87
Diflubenzuron | 35367-38-5 | 1/1/95
Diglycidyl resorcinol ether | 101-90-6 | 1/1/95
Dihydrosafrole | 94-58-6 | 1/1/94
Dimethipin | 55290-64-7 | 1/1/95
Dimethoate | 60-51-5 | 1/1/95
3,3′-Dimethoxybenzidine | 119-90-4 | 1/1/87
3,3′-Dimethoxybenzidine dihydrochloride | 20325-40-0 | 1/1/95
3,3′-Dimethoxybenzidine monohydrochloride | 111984-09-9 | 1/1/95
Dimethylamine | 124-40-3 | 1/1/95
Dimethylamine dicamba | 2300-66-5 | 1/1/95
4-Dimethylaminoazobenzene | 60-11-7 | 1/1/87
N,N-Dimethylaniline | 121-69-7 | 1/1/87
3,3′-Dimethylbenzidine | 119-93-7 | 1/1/87
3,3′-Dimethylbenzidine dihydrochloride | 612-82-8 | 1/1/95
3,3′-Dimethylbenzidine dihydrofluoride | 41766-75-0 | 1/1/95
Dimethylcarbamoyl chloride | 79-44-7 | 1/1/87
Dimethyl chlorothiophosphate | 2524-03-0 | 1/1/95
N,N-Dimethylformamide | 68-12-2 | 1/1/95
1,1-Dimethylhydrazine | 57-14-7 | 1/1/87
2,4-Dimethylphenol | 105-67-9 | 1/1/87
Dimethyl phthalate | 131-11-3 | 1/1/87
Dimethyl sulfate | 77-78-1 | 1/1/87
m-Dinitrobenzene | 99-65-0 | 1/1/90
o-Dinitrobenzene | 528-29-0 | 1/1/90
p-Dinitrobenzene | 100-25-4 | 1/1/90
Dinitrobutyl phenol (Dinoseb) | 88-85-7 | 1/1/95
4,6-Dinitro-o-cresol | 534-52-1 | 1/1/87
2,4-Dinitrophenol | 51-28-5 | 1/1/87
2,4-Dinitrotoluene | 121-14-2 | 1/1/87
2,6-Dinitrotoluene | 606-20-2 | 1/1/87
Dinitrotoluene (mixed isomers) | 25321-14-6 | 1/1/90
Dinocap | 39300-45-3 | 1/1/95
1,4-Dioxane | 123-91-1 | 1/1/87
Diphenamid | 957-51-7 | 1/1/95
Diphenylamine | 122-39-4 | 1/1/95
1,2-Diphenylhydrazine | 122-66-7 | 1/1/87
Dipotassium endothall | 2164-07-0 | 1/1/95
Dipropyl isocinchomeronate | 136-45-8 | 1/1/95
Disodium cyanodithioimidocarbonate | 138-93-2 | 1/1/95
2,4-D isopropyl ester | 94-11-1 | 1/1/95
2,4-Dithiobiuret (Dithiobiuret) | 541-53-7 | 1/1/95
Diuron | 330-54-1 | 1/1/95
Dodine | 2439-10-3 | 1/1/95
2,4-DP (Dichlorprop) | 120-36-5 | 1/1/95
2,4-D propylene glycol butyl ether ester (2,4-D 2-butoxymethylethyl ester) | 1320-18-9 | 1/1/95
2,4-D sodium salt | 2702-72-9 | 1/1/95
Epichlorohydrin | 106-89-8 | 1/1/87
Ethoprop | 13194-48-4 | 1/1/95
2-Ethoxyethanol | 110-80-5 | 1/1/87
Ethyl acrylate | 140-88-5 | 1/1/87
Ethylbenzene | 100-41-4 | 1/1/87
Ethyl chloroformate | 541-41-3 | 1/1/87
S-Ethyl dipropylthiocarbamate | 759-94-4 | 1/1/95
Ethylene | 74-85-1 | 1/1/87
Ethylene glycol | 107-21-1 | 1/1/87
Ethyleneimine (Aziridine) | 151-56-4 | 1/1/87
Ethylene oxide | 75-21-8 | 1/1/87
Ethylene thiourea | 96-45-7 | 1/1/87
Ethylidene dichloride (1,1-Dichloroethane) | 75-34-3 | 1/1/94
Famphur | 52-85-7 | 1/1/95
Fenarimol | 60168-88-9 | 1/1/95
Fenbutatin oxide | 13356-08-6 | 1/1/95
Fenoxaprop-ethyl | 66441-23-4 | 1/1/95
Fenoxycarb | 72490-01-8 | 1/1/95
Fenpropathrin | 39515-41-8 | 1/1/95
Fenthion | 55-38-9 | 1/1/95
Fenvalerate | 51630-58-1 | 1/1/95
Ferbam | 14484-64-1 | 1/1/95
Fluazifop-butyl | 69806-50-4 | 1/1/95
Fluometuron | 2164-17-2 | 1/1/87
Fluorine | 7782-41-4 | 1/1/95
Fluorouracil (5-Fluorouracil) | 51-21-8 | 1/1/95
Fluvalinate | 69409-94-5 | 1/1/95
Folpet | 133-07-3 | 1/1/95
Fomesafen | 72178-02-0 | 1/1/95
Formaldehyde | 50-00-0 | 1/1/87
Formic acid | 64-18-6 | 1/1/94
Freon 113 (CFC-113) | 76-13-1 | 1/1/87
Furan | 110-00-9 | 1/1/11
Glycidol | 556-52-5 | 1/1/11
Heptachlor | 76-44-8 | 1/1/87
Hexachlorobenzene | 118-74-1 | 1/1/87
Hexachloro-1,3-butadiene (Hexachlorobutadiene) | 87-68-3 | 1/1/87
alpha-Hexachlorocyclohexane | 319-84-6 | 1/1/95
Hexachlorocyclopentadiene | 77-47-4 | 1/1/87
Hexachloroethane | 67-72-1 | 1/1/87
Hexachloronaphthalene | 1335-87-1 | 1/1/87
Hexachlorophene | 70-30-4 | 1/1/94
Hexamethylphosphoramide | 680-31-9 | 1/1/87
n-Hexane (Hexane) | 110-54-3 | 1/1/95
Hexazinone | 51235-04-2 | 1/1/95
Hydramethylnon | 67485-29-4 | 1/1/95
Hydrazine | 302-01-2 | 1/1/87
Hydrazine sulfate (1:1) | 10034-93-2 | 1/1/87
Hydrochloric acid (acid aerosols including mists, vapors, gas, fog, and other airborne forms of any particle size) | 7647-01-0 | 1/1/87
Hydrogen cyanide | 74-90-8 | 1/1/87
Hydrogen fluoride (Hydrofluoric acid) | 7664-39-3 | 1/1/87
Hydrogen sulfide | 7783-06-4 | 1/1/94
Hydroquinone | 123-31-9 | 1/1/87
Imazalil | 35554-44-0 | 1/1/95
3-Iodo-2-propynyl butylcarbamate | 55406-53-6 | 1/1/95
Iron pentacarbonyl | 13463-40-6 | 1/1/95
Isobutyraldehyde | 78-84-2 | 1/1/87
Isodrin | 465-73-6 | 1/1/95
Isofenphos | 25311-71-1 | 1/1/95
Isoprene | 78-79-5 | 1/1/11
Isopropyl alcohol (Isopropanol) (only persons who manufacture by the strong acid process are subject, no supplier notification) | 67-63-0 | 1/1/87
4,4′-Isopropylidenediphenol | 80-05-7 | 1/1/87
Isosafrole | 120-58-1 | 1/1/90
Lactofen | 77501-63-4 | 1/1/95
Lead | 7439-92-1 | 1/1/87
Lindane | 58-89-9 | 1/1/87
Linuron | 330-55-2 | 1/1/95
Lithium carbonate | 554-13-2 | 1/1/95
Malathion | 121-75-5 | 1/1/95
Maleic anhydride | 108-31-6 | 1/1/87
Malononitrile | 109-77-3 | 1/1/94
Maneb | 12427-38-2 | 1/1/87
Manganese | 7439-96-5 | 1/1/87
Mecoprop | 93-65-2 | 1/1/95
2-Mercaptobenzothiazole | 149-30-4 | 1/1/95
Mercury | 7439-97-6 | 1/1/87
Merphos | 150-50-5 | 1/1/95
Methacrylonitrile | 126-98-7 | 1/1/94
Metham sodium (Sodium methyldithiocarbamate) | 137-42-8 | 1/1/95
Methanol | 67-56-1 | 1/1/87
Methazole | 20354-26-1 | 1/1/95
Methiocarb | 2032-65-7 | 1/1/95
Methoxone (MCPA) | 94-74-6 | 1/1/95
Methoxone sodium salt | 3653-48-3 | 1/1/95
Methoxychlor | 72-43-5 | 1/1/87
2-Methoxyethanol | 109-86-4 | 1/1/87
Methyl acrylate | 96-33-3 | 1/1/87
Methyl tert-butyl ether | 1634-04-4 | 1/1/87
Methyl chlorocarbonate | 79-22-1 | 1/1/94
4,4′-Methylenebis(2-chloroaniline) | 101-14-4 | 1/1/87
4,4′-Methylenebis(N,N-dimethyl)benzenamine (4,4′-Methylenebis[N,N-dimethylaniline]) | 101-61-1 | 1/1/87
Methylene bromide (Dibromomethane) | 74-95-3 | 1/1/87
4,4′-Methylenedianiline | 101-77-9 | 1/1/87
Methyleugenol | 93-15-2 | 1/1/11
Methyl hydrazine | 60-34-4 | 1/1/87
Methyl iodide | 74-88-4 | 1/1/87
Methyl isobutyl ketone | 108-10-1 | 1/1/87
Methyl isocyanate | 624-83-9 | 1/1/87
Methyl isothiocyanate | 556-61-6 | 1/1/95
2-Methyllactonitrile (Acetone cyanohydrin) | 75-86-5 | 1/1/95
* * * * * * * * * * * *
Methyl methacrylate | 80-62-6 | 1/1/87
N-Methylolacrylamide | 924-42-5 | 1/1/95
Methyl parathion | 298-00-0 | 1/1/95
2-Methylpyridine | 109-06-8 | 1/1/94
N-Methyl-2-pyrrolidone | 872-50-4 | 1/1/95
Metiram | 9006-42-2 | 1/1/95
Metribuzin | 21087-64-9 | 1/1/95
Mevinphos | 7786-34-7 | 1/1/95
Michler's ketone | 90-94-8 | 1/1/87
Molinate | 2212-67-1 | 1/1/95
Molybdenum trioxide | 1313-27-5 | 1/1/87
Monochloropentafluoroethane (CFC-115) | 76-15-3 | 7/8/90
Monuron | 150-68-5 | 1/1/95
Mustard gas | 505-60-2 | 1/1/87
Myclobutanil | 88671-89-0 | 1/1/95
Nabam | 142-59-6 | 1/1/95
Naled | 300-76-5 | 1/1/95
Naphthalene | 91-20-3 | 1/1/87
alpha-Naphthylamine (1-Naphthalenamine) | 134-32-7 | 1/1/87
beta-Naphthylamine (2-Naphthalenamine) | 91-59-8 | 1/1/87
Nickel | 7440-02-0 | 1/1/87
Nitrapyrin | 1929-82-4 | 1/1/95
Nitric acid | 7697-37-2 | 1/1/87
Nitrilotriacetic acid | 139-13-9 | 1/1/87
p-Nitroaniline | 100-01-6 | 1/1/95
5-Nitro-o-anisidine (2-Methoxy-5-nitroaniline) | 99-59-2 | 1/1/87
o-Nitroanisole | 91-23-6 | 1/1/11
Nitrobenzene | 98-95-3 | 1/1/87
4-Nitrobiphenyl | 92-93-3 | 1/1/87
Nitrofen | 1836-75-5 | 1/1/87
Nitrogen mustard (HN-2) | 51-75-2 | 1/1/87
Nitroglycerin | 55-63-0 | 1/1/87
Nitromethane | 75-52-5 | 1/1/11
2-Nitrophenol (o-Nitrophenol) | 88-75-5 | 1/1/87
4-Nitrophenol (p-Nitrophenol) | 100-02-7 | 1/1/87
2-Nitropropane | 79-46-9 | 1/1/87
N-Nitrosodi-n-butylamine | 924-16-3 | 1/1/87
N-Nitrosodiethylamine | 55-18-5 | 1/1/87
N-Nitrosodimethylamine | 62-75-9 | 1/1/87
N-Nitrosodiphenylamine | 86-30-6 | 1/1/87
p-Nitrosodiphenylamine | 156-10-5 | 1/1/87
N-Nitrosodi-n-propylamine | 621-64-7 | 1/1/87
N-Nitroso-N-ethylurea | 759-73-9 | 1/1/87
N-Nitroso-N-methylurea | 684-93-5 | 1/1/87
N-Nitrosomethylvinylamine | 4549-40-0 | 1/1/87
N-Nitrosomorpholine | 59-89-2 | 1/1/87
N-Nitrosonornicotine | 16543-55-8 | 1/1/87
N-Nitrosopiperidine | 100-75-4 | 1/1/87
o-Nitrotoluene | 88-72-2 | 1/1/14
5-Nitro-o-toluidine (2-Methyl-5-nitroaniline) | 99-55-8 | 1/1/94
Norflurazon | 27314-13-2 | 1/1/95
Octachloronaphthalene | 2234-13-1 | 1/1/87
Octachlorostyrene | 29082-74-4 | 1/1/00
Oryzalin | 19044-88-3 | 1/1/95
Osmium tetroxide | 20816-12-0 | 1/1/87
Oxydemeton-methyl | 301-12-2 | 1/1/95
Oxadiazon | 19666-30-9 | 1/1/95
Oxyfluorfen | 42874-03-3 | 1/1/95
Ozone | 10028-15-6 | 1/1/95
Paraldehyde | 123-63-7 | 1/1/94
Paraquat dichloride | 1910-42-5 | 1/1/95
Parathion | 56-38-2 | 1/1/87
Pebulate | 1114-71-2 | 1/1/95
Pendimethalin | 40487-42-1 | 1/1/95
Pentachlorobenzene | 608-93-5 | 1/1/00
Pentachloroethane | 76-01-7 | 1/1/94
Pentachlorophenol | 87-86-5 | 1/1/87
Pentobarbital sodium | 57-33-0 | 1/1/95
Peracetic acid | 79-21-0 | 1/1/87
Perchloromethyl mercaptan | 594-42-3 | 1/1/95
Permethrin | 52645-53-1 | 1/1/95
Phenanthrene | 85-01-8 | 1/1/95
Phenol | 108-95-2 | 1/1/87
Phenolphthalein (3,3-Bis(4-hydroxyphenyl)phthalide) | 77-09-8 | 1/1/11
Phenothrin | 26002-80-2 | 1/1/95
p-Phenylenediamine | 106-50-3 | 1/1/87
1,2-Phenylenediamine | 95-54-5 | 1/1/95
1,3-Phenylenediamine | 108-45-2 | 1/1/95
1,2-Phenylenediamine dihydrochloride | 615-28-1 | 1/1/95
1,4-Phenylenediamine dihydrochloride | 624-18-0 | 1/1/95
2-Phenylphenol | 90-43-7 | 1/1/87
Phenytoin | 57-41-0 | 1/1/95
Phosgene | 75-44-5 | 1/1/87
Phosphine | 7803-51-2 | 1/1/95
Phosphorus (yellow or white) | 12185-10-3 | 1/1/87
Phthalic anhydride | 85-44-9 | 1/1/87
Picloram | 1918-02-1 | 1/1/95
Picric acid | 88-89-1 | 1/1/87
Piperonyl butoxide | 51-03-6 | 1/1/95
Pirimiphos-methyl | 29232-93-7 | 1/1/95
Polychlorinated biphenyls | 1336-36-3 | 1/1/87
Potassium bromate | 7758-01-2 | 1/1/95
Potassium dimethyldithiocarbamate | 128-03-0 | 1/1/95
Potassium N-methyldithiocarbamate | 137-41-7 | 1/1/95
Profenofos | 41198-08-7 | 1/1/95
Prometryn | 7287-19-6 | 1/1/95
Pronamide | 23950-58-5 | 1/1/94
Propachlor | 1918-16-7 | 1/1/95
1,3-Propane sultone | 1120-71-4 | 1/1/87
Propanil | 709-98-8 | 1/1/95
Propargite | 2312-35-8 | 1/1/95
Propargyl alcohol | 107-19-7 | 1/1/95
Propetamphos | 31218-83-4 | 1/1/95
Propiconazole | 60207-90-1 | 1/1/95
beta-Propiolactone | 57-57-8 | 1/1/87
Propionaldehyde | 123-38-6 | 1/1/87
Propoxur | 114-26-1 | 1/1/87
Propylene | 115-07-1 | 1/1/87
Propyleneimine | 75-55-8 | 1/1/87
Propylene oxide | 75-56-9 | 1/1/87
Pyridine | 110-86-1 | 1/1/87
Quinoline | 91-22-5 | 1/1/87
Quinone | 106-51-4 | 1/1/87
Quintozene (Pentachloronitrobenzene) | 82-68-8 | 1/1/87
Quizalofop-ethyl | 76578-14-8 | 1/1/95
Resmethrin | 10453-86-8 | 1/1/95
Saccharin (only persons who manufacture are subject, no supplier notification) | 81-07-2 | 1/1/87
Safrole | 94-59-7 | 1/1/87
Selenium | 7782-49-2 | 1/1/87
Sethoxydim | 74051-80-2 | 1/1/95
Silver | 7440-22-4 | 1/1/87
Simazine | 122-34-9 | 1/1/95
Sodium azide | 26628-22-8 | 1/1/95
Sodium dicamba | 1982-69-0 | 1/1/95
Sodium dimethyldithiocarbamate | 128-04-1 | 1/1/95
Sodium fluoroacetate | 62-74-8 | 1/1/95
Sodium nitrite | 7632-00-0 | 1/1/95
Sodium pentachlorophenate | 131-52-2 | 1/1/95
Sodium o-phenylphenoxide | 132-27-4 | 1/1/95
Styrene | 100-42-5 | 1/1/87
Styrene oxide | 96-09-3 | 1/1/87
Sulfuric acid (acid aerosols including mists, vapors, gas, fog, and other airborne forms of any particle size) | 7664-93-9 | 1/1/87
Sulfuryl fluoride | 2699-79-8 | 1/1/95
Sulprofos | 35400-43-2 | 1/1/95
Tebuthiuron | 34014-18-1 | 1/1/95
Temephos | 3383-96-8 | 1/1/95
Terbacil | 5902-51-2 | 1/1/95
Tetrabromobisphenol A | 79-94-7 | 1/1/00
1,1,1,2-Tetrachloroethane | 630-20-6 | 1/1/94
1,1,2,2-Tetrachloroethane | 79-34-5 | 1/1/87
Tetrachloroethylene | 127-18-4 | 1/1/87
1,1,1,2-Tetrachloro-2-fluoroethane (HCFC-121a) | 354-11-0 | 1/1/95
1,1,2,2-Tetrachloro-1-fluoroethane (HCFC-121) | 354-14-3 | 1/1/95
Tetrachlorvinphos | 961-11-5 | 1/1/87
Tetracycline hydrochloride | 64-75-5 | 1/1/95
Tetrafluoroethylene (Tetrafluoroethene) | 116-14-3 | 1/1/11
Tetramethrin | 7696-12-0 | 1/1/95
Tetranitromethane | 509-14-8 | 1/1/11
Thallium | 7440-28-0 | 1/1/87
Thiabendazole | 148-79-8 | 1/1/95
Thioacetamide | 62-55-5 | 1/1/87
Thiobencarb | 28249-77-6 | 1/1/95
4,4′-Thiodianiline | 139-65-1 | 1/1/87
Thiodicarb | 59669-26-0 | 1/1/95
Thiophanate-ethyl | 23564-06-9 | 1/1/95
Thiophanate-methyl | 23564-05-8 | 1/1/95
Thiosemicarbazide | 79-19-6 | 1/1/95
Thiourea | 62-56-6 | 1/1/87
Thiram | 137-26-8 | 1/1/94
Thorium dioxide | 1314-20-1 | 1/1/87
Titanium tetrachloride | 7550-45-0 | 1/1/87
Toluene | 108-88-3 | 1/1/87
Toluene-2,4-diisocyanate | 584-84-9 | 1/1/87
Toluene-2,6-diisocyanate | 91-08-7 | 1/1/87
Toluene diisocyanate (mixed isomers) | 26471-62-5 | 1/1/90
o-Toluidine | 95-53-4 | 1/1/87
o-Toluidine hydrochloride | 636-21-5 | 1/1/87
Toxaphene | 8001-35-2 | 1/1/87
Triadimefon | 43121-43-3 | 1/1/95
Triallate | 2303-17-5 | 1/1/95
Triaziquone | 68-76-8 | 1/1/87
Tribenuron-methyl | 101200-48-0 | 1/1/95
Tributyltin fluoride | 1983-10-4 | 1/1/95
Tributyltin methacrylate | 2155-70-6 | 1/1/95
S,S,S-Tributyltrithiophosphate (Tribufos) | 78-48-8 | 1/1/95
Trichlorfon | 52-68-6 | 1/1/87
Trichloroacetyl chloride | 76-02-8 | 1/1/95
1,2,4-Trichlorobenzene | 120-82-1 | 1/1/87
1,1,1-Trichloroethane | 71-55-6 | 1/1/87
1,1,2-Trichloroethane | 79-00-5 | 1/1/87
Trichloroethylene | 79-01-6 | 1/1/87
Trichlorofluoromethane (CFC-11) | 75-69-4 | 7/8/90
2,4,5-Trichlorophenol | 95-95-4 | 1/1/87
2,4,6-Trichlorophenol | 88-06-2 | 1/1/87
1,2,3-Trichloropropane | 96-18-4 | 1/1/95
Triclopyr-triethylammonium salt | 57213-69-1 | 1/1/95
Triethylamine | 121-44-8 | 1/1/95
Trifluralin | 1582-09-8 | 1/1/87
Triforine | 26644-46-2 | 1/1/95
1,2,4-Trimethylbenzene | 95-63-6 | 1/1/87
2,3,5-Trimethylphenyl methylcarbamate | 2655-15-4 | 1/1/95
Triphenyltin chloride | 639-58-7 | 1/1/95
Triphenyltin hydroxide | 76-87-9 | 1/1/95
Tris(2,3-dibromopropyl) phosphate | 126-72-7 | 1/1/87
Trypan blue | 72-57-1 | 1/1/94
Urethane | 51-79-6 | 1/1/87
Vanadium (except when contained in an alloy) | 7440-62-2 | 1/1/00
Vinclozolin | 50471-44-8 | 1/1/95
Vinyl acetate | 108-05-4 | 1/1/87
Vinyl bromide | 593-60-2 | 1/1/87
Vinyl chloride | 75-01-4 | 1/1/87
Vinyl fluoride | 75-02-5 | 1/1/11
Vinylidene chloride (1,1-Dichloroethylene) | 75-35-4 | 1/1/87
Xylene (mixed isomers) | 1330-20-7 | 1/1/87
m-Xylene | 108-38-3 | 1/1/87
o-Xylene | 95-47-6 | 1/1/87
p-Xylene | 106-42-3 | 1/1/87
2,6-Xylidine | 87-62-7 | 1/1/87
Zinc (fume or dust) | 7440-66-6 | 1/1/87
Zineb | 12122-67-7 | 1/1/87
¹ The listing of 2,2-dibromo-3-nitrilopropionamide (CAS No. 10222-01-2) is stayed. The stay will remain in effect until further administrative action is taken.

(b) * * *

Table 2 to Paragraph (b)
CAS No. | Chemical name | Effective date
50-00-0 | Formaldehyde | 1/1/87
51-03-6 | Piperonyl butoxide | 1/1/95
51-21-8 | Fluorouracil (5-Fluorouracil) | 1/1/95
51-28-5 | 2,4-Dinitrophenol | 1/1/87
51-75-2 | Nitrogen mustard (HN-2) | 1/1/87
51-79-6 | Urethane | 1/1/87
52-68-6 | Trichlorfon | 1/1/87
52-85-7 | Famphur | 1/1/95
53-96-3 | 2-Acetylaminofluorene | 1/1/87
55-18-5 | N-Nitrosodiethylamine | 1/1/87
55-21-0 | Benzamide | 1/1/87
55-38-9 | Fenthion | 1/1/95
55-63-0 | Nitroglycerin | 1/1/87
56-23-5 | Carbon tetrachloride | 1/1/87
56-35-9 | Bis(tributyltin) oxide | 1/1/95
56-38-2 | Parathion | 1/1/87
57-14-7 | 1,1-Dimethylhydrazine | 1/1/87
57-33-0 | Pentobarbital sodium | 1/1/95
57-41-0 | Phenytoin | 1/1/95
57-57-8 | beta-Propiolactone | 1/1/87
57-74-9 | Chlordane | 1/1/87
58-89-9 | Lindane | 1/1/87
59-89-2 | N-Nitrosomorpholine | 1/1/87
60-09-3 | 4-Aminoazobenzene | 1/1/87
60-11-7 | 4-Dimethylaminoazobenzene | 1/1/87
60-34-4 | Methyl hydrazine | 1/1/87
60-35-5 | Acetamide | 1/1/87
60-51-5 | Dimethoate | 1/1/95
61-82-5 | Amitrole | 1/1/94
62-53-3 | Aniline | 1/1/87
62-55-5 | Thioacetamide | 1/1/87
62-56-6 | Thiourea | 1/1/87
62-73-7 | Dichlorvos | 1/1/87
62-74-8 | Sodium fluoroacetate | 1/1/95
62-75-9 | N-Nitrosodimethylamine | 1/1/87
63-25-2 | Carbaryl | 1/1/87
64-18-6 | Formic acid | 1/1/94
64-67-5 | Diethyl sulfate | 1/1/87
64-75-5 | Tetracycline hydrochloride | 1/1/95
67-56-1 | Methanol | 1/1/87
67-63-0 | Isopropyl alcohol (Isopropanol) (only persons who manufacture by the strong acid process are subject, no supplier notification) | 1/1/87
67-66-3 | Chloroform | 1/1/87
67-72-1 | Hexachloroethane | 1/1/87
68-12-2 | N,N-Dimethylformamide | 1/1/95
68-76-8 | Triaziquone | 1/1/87
70-30-4 | Hexachlorophene | 1/1/94
71-36-3 | n-Butyl alcohol (1-Butanol) | 1/1/87
71-43-2 | Benzene | 1/1/87
71-55-6 | 1,1,1-Trichloroethane | 1/1/87
72-43-5 | Methoxychlor | 1/1/87
72-57-1 | Trypan blue | 1/1/94
74-83-9 | Bromomethane (Methyl bromide) | 1/1/87
74-85-1 | Ethylene | 1/1/87
74-87-3 | Chloromethane | 1/1/87
74-88-4 | Methyl iodide | 1/1/87
74-90-8 | Hydrogen cyanide | 1/1/87
* * * * * * * * * * *
74-95-3 | Methylene bromide (Dibromomethane) | 1/1/87
75-00-3 | Chloroethane | 1/1/87
75-01-4 | Vinyl chloride | 1/1/87
75-02-5 | Vinyl fluoride | 1/1/11
75-05-8 | Acetonitrile | 1/1/87
75-07-0 | Acetaldehyde | 1/1/87
75-09-2 | Dichloromethane (Methylene chloride) | 1/1/87
75-15-0 | Carbon disulfide | 1/1/87
75-21-8 | Ethylene oxide | 1/1/87
75-25-2 | Bromoform (Tribromomethane) | 1/1/87
75-27-4 | Dichlorobromomethane | 1/1/87
75-34-3 | Ethylidene dichloride (1,1-Dichloroethane) | 1/1/94
75-35-4 | Vinylidene chloride (1,1-Dichloroethylene) | 1/1/87
75-43-4 | Dichlorofluoromethane (HCFC-21) | 1/1/95
75-44-5 | Phosgene | 1/1/87
75-45-6 | Chlorodifluoromethane (HCFC-22) | 1/1/94
75-52-5 | Nitromethane | 1/1/11
75-55-8 | Propyleneimine | 1/1/87
75-56-9 | Propylene oxide | 1/1/87
75-63-8 | Bromotrifluoromethane (Halon 1301) | 7/8/90
75-65-0 | tert-Butyl alcohol (tert-Butanol) | 1/1/87
75-68-3 | 1-Chloro-1,1-difluoroethane (HCFC-142b) | 1/1/94
75-69-4 | Trichlorofluoromethane (CFC-11) | 7/8/90
75-71-8 | Dichlorodifluoromethane (CFC-12) | 7/8/90
75-72-9 | Chlorotrifluoromethane (CFC-13) | 1/1/95
75-86-5 | 2-Methyllactonitrile (Acetone cyanohydrin) | 1/1/95
75-88-7 | 2-Chloro-1,1,1-trifluoroethane (HCFC-133a) | 1/1/95
76-01-7 | Pentachloroethane | 1/1/94
76-02-8 | Trichloroacetyl chloride | 1/1/95
76-06-2 | Chloropicrin | 1/1/95
76-13-1 | Freon 113 (CFC-113) | 1/1/87
76-14-2 | Dichlorotetrafluoroethane (CFC-114) | 7/8/90
76-15-3 | Monochloropentafluoroethane (CFC-115) | 7/8/90
76-44-8 | Heptachlor | 1/1/87
76-87-9 | Triphenyltin hydroxide | 1/1/95
77-09-8 | Phenolphthalein (3,3-Bis(4-hydroxyphenyl)phthalide) | 1/1/11
77-47-4 | Hexachlorocyclopentadiene | 1/1/87
77-73-6 | Dicyclopentadiene | 1/1/95
77-78-1 | Dimethyl sulfate | 1/1/87
78-48-8 | S,S,S-Tributyltrithiophosphate (Tribufos) | 1/1/95
78-79-5 | Isoprene | 1/1/11
78-84-2 | Isobutyraldehyde | 1/1/87
78-87-5 | 1,2-Dichloropropane | 1/1/87
78-88-6 | 2,3-Dichloropropene | 1/1/90
78-92-2 | sec-Butyl alcohol (2-Butanol) | 1/1/87
79-00-5 | 1,1,2-Trichloroethane | 1/1/87
79-01-6 | Trichloroethylene | 1/1/87
79-06-1 | Acrylamide | 1/1/87
79-10-7 | Acrylic acid | 1/1/87
79-11-8 | Chloroacetic acid | 1/1/87
79-19-6 | Thiosemicarbazide | 1/1/95
79-21-0 | Peracetic acid | 1/1/87
79-22-1 | Methyl chlorocarbonate | 1/1/94
79-34-5 | 1,1,2,2-Tetrachloroethane | 1/1/87
79-44-7 | Dimethylcarbamoyl chloride | 1/1/87
79-46-9 | 2-Nitropropane | 1/1/87
79-94-7 | Tetrabromobisphenol A | 1/1/00
80-05-7 | 4,4′-Isopropylidenediphenol | 1/1/87
80-15-9 | Cumene hydroperoxide | 1/1/87
80-62-6 | Methyl methacrylate | 1/1/87
81-07-2 | Saccharin (only persons who manufacture are subject, no supplier notification) | 1/1/87
81-49-2 | 1-Amino-2,4-dibromoanthraquinone | 1/1/11
81-88-9 | C.I. Food Red 15 (Rhodamine B) | 1/1/87
82-28-0 | 1-Amino-2-methylanthraquinone | 1/1/87
82-68-8 | Quintozene (Pentachloronitrobenzene) | 1/1/87
84-74-2 | Dibutyl phthalate | 1/1/87
85-01-8 | Phenanthrene | 1/1/95
85-44-9 | Phthalic anhydride | 1/1/87
86-30-6 | N-Nitrosodiphenylamine | 1/1/87
87-62-7 | 2,6-Xylidine | 1/1/87
87-68-3 | Hexachloro-1,3-butadiene (Hexachlorobutadiene) | 1/1/87
87-86-5 | Pentachlorophenol | 1/1/87
88-06-2 | 2,4,6-Trichlorophenol | 1/1/87
88-72-2 | o-Nitrotoluene | 1/1/14
88-75-5 | 2-Nitrophenol (o-Nitrophenol) | 1/1/87
88-85-7 | Dinitrobutyl phenol (Dinoseb) | 1/1/95
88-89-1 | Picric acid | 1/1/87
90-04-0 | o-Anisidine | 1/1/87
90-43-7 | 2-Phenylphenol | 1/1/87
90-94-8 | Michler's ketone | 1/1/87
91-08-7 | Toluene-2,6-diisocyanate | 1/1/87
91-20-3 | Naphthalene | 1/1/87
91-22-5 | Quinoline | 1/1/87
91-23-6 | o-Nitroanisole | 1/1/11
91-59-8 | beta-Naphthylamine (2-Naphthalenamine) | 1/1/87
91-94-1 | 3,3′-Dichlorobenzidine | 1/1/87
92-52-4 | Biphenyl | 1/1/87
92-67-1 | 4-Aminobiphenyl | 1/1/87
92-87-5 | Benzidine | 1/1/87
92-93-3 | 4-Nitrobiphenyl | 1/1/87
93-15-2 | Methyleugenol | 1/1/11
93-65-2 | Mecoprop | 1/1/95
94-11-1 | 2,4-D isopropyl ester | 1/1/95
94-36-0 | Benzoyl peroxide | 1/1/87
94-58-6 | Dihydrosafrole | 1/1/94
94-59-7 | Safrole | 1/1/87
94-74-6 | Methoxone (MCPA) | 1/1/95
94-75-7 | 2,4-D | 1/1/87
94-80-4 | 2,4-D butyl ester | 1/1/95
94-82-6 | 2,4-DB | 1/1/95
95-47-6 | o-Xylene | 1/1/87
95-48-7 | o-Cresol | 1/1/87
95-50-1 | 1,2-Dichlorobenzene (o-Dichlorobenzene) | 1/1/87
95-53-4 | o-Toluidine | 1/1/87
95-54-5 | 1,2-Phenylenediamine | 1/1/95
95-63-6 | 1,2,4-Trimethylbenzene | 1/1/87
95-69-2 | p-Chloro-o-toluidine (4-Chloro-2-methylaniline) | 1/1/95
95-80-7 | 2,4-Diaminotoluene (2,4-Toluenediamine) | 1/1/87
95-95-4 | 2,4,5-Trichlorophenol | 1/1/87
96-09-3 | Styrene oxide | 1/1/87
96-12-8 | 1,2-Dibromo-3-chloropropane | 1/1/87
96-18-4 | 1,2,3-Trichloropropane | 1/1/95
96-33-3 | Methyl acrylate | 1/1/87
96-45-7 | Ethylene thiourea | 1/1/87
97-23-4 | Dichlorophene | 1/1/95
97-56-3 | C.I. Solvent Yellow 3 | 1/1/87
98-07-7 | Benzoic trichloride (Benzotrichloride) | 1/1/87
98-82-8 | Cumene | 1/1/87
98-86-2 | Acetophenone | 1/1/94
98-87-3 | Benzal chloride | 1/1/87
98-88-4 | Benzoyl chloride | 1/1/87
98-95-3 | Nitrobenzene | 1/1/87
99-30-9 | Dichloran | 1/1/95
99-55-8 | 5-Nitro-o-toluidine (2-Methyl-5-nitroaniline) | 1/1/94
99-59-2 | 5-Nitro-o-anisidine (2-Methoxy-5-nitroaniline) | 1/1/87
99-65-0 | m-Dinitrobenzene | 1/1/90
100-01-6 | p-Nitroaniline | 1/1/95
100-02-7 | 4-Nitrophenol (p-Nitrophenol) | 1/1/87
100-25-4 | p-Dinitrobenzene | 1/1/90
100-41-4 | Ethylbenzene | 1/1/87
100-42-5 | Styrene | 1/1/87
100-44-7 | Benzyl chloride | 1/1/87
100-75-4 | N-Nitrosopiperidine | 1/1/87
101-05-3 | Anilazine | 1/1/95
101-14-4 | 4,4′-Methylenebis(2-chloroaniline) | 1/1/87
101-61-1 | 4,4′-Methylenebis(N,N-dimethyl)benzenamine (4,4′-Methylenebis[N,N-dimethylaniline]) | 1/1/87
101-77-9 | 4,4′-Methylenedianiline | 1/1/87
101-80-4 | 4,4′-Diaminodiphenyl ether | 1/1/87
101-90-6 | Diglycidyl resorcinol ether | 1/1/95
104-12-1 | p-Chlorophenyl isocyanate | 1/1/95
104-94-9 | p-Anisidine | 1/1/87
105-67-9 | 2,4-Dimethylphenol | 1/1/87
106-42-3 | p-Xylene | 1/1/87
106-44-5 | p-Cresol | 1/1/87
106-46-7 | 1,4-Dichlorobenzene (p-Dichlorobenzene) | 1/1/87
106-47-8 | p-Chloroaniline | 1/1/95
106-50-3 | p-Phenylenediamine | 1/1/87
106-51-4 | Quinone | 1/1/87
106-88-7 | 1,2-Butylene oxide | 1/1/87
106-89-8 | Epichlorohydrin | 1/1/87
106-93-4 | 1,2-Dibromoethane (Ethylene dibromide) | 1/1/87
106-94-5 | 1-Bromopropane | 1/1/16
106-99-0 | 1,3-Butadiene | 1/1/87
107-02-8 | Acrolein | 1/1/87
107-05-1 | Allyl chloride | 1/1/87
107-06-2 | 1,2-Dichloroethane | 1/1/87
107-11-9 | Allylamine | 1/1/95
107-13-1 | Acrylonitrile | 1/1/87
107-18-6 | Allyl alcohol | 1/1/90
107-19-7 | Propargyl alcohol | 1/1/95
107-21-1 | Ethylene glycol | 1/1/87
107-30-2 | Chloromethyl methyl ether | 1/1/87
108-05-4 | Vinyl acetate | 1/1/87
108-10-1 | Methyl isobutyl ketone | 1/1/87
108-31-6 | Maleic anhydride | 1/1/87
108-38-3 | m-Xylene | 1/1/87
108-39-4 | m-Cresol | 1/1/87
108-45-2 | 1,3-Phenylenediamine | 1/1/95
108-60-1 | Bis(2-chloro-1-methylethyl) ether | 1/1/87
108-88-3 | Toluene | 1/1/87
108-90-7 | Chlorobenzene | 1/1/87
108-93-0 | Cyclohexanol | 1/1/95
108-95-2 | Phenol | 1/1/87
109-06-8 | 2-Methylpyridine | 1/1/94
109-77-3 | Malononitrile | 1/1/94
109-86-4 | 2-Methoxyethanol | 1/1/87
110-00-9 | Furan | 1/1/11
110-54-3 | n-Hexane (Hexane) | 1/1/95
110-57-6 | trans-1,4-Dichloro-2-butene | 1/1/95
110-80-5 | 2-Ethoxyethanol | 1/1/87
110-82-7 | Cyclohexane | 1/1/87
110-86-1 | Pyridine | 1/1/87
111-42-2 | Diethanolamine | 1/1/87
111-44-4 | Bis(2-chloroethyl) ether | 1/1/87
111-91-1 | Bis(2-chloroethoxy)methane | 1/1/94
114-26-1 | Propoxur | 1/1/87
115-07-1 | Propylene | 1/1/87
115-28-6 | Chlorendic acid | 1/1/95
115-32-2 | Dicofol | 1/1/87
116-06-3 | Aldicarb | 1/1/95
116-14-3 | Tetrafluoroethylene (Tetrafluoroethene) | 1/1/11
117-79-3 | 2-Aminoanthraquinone | 1/1/87
117-81-7 | Di(2-ethylhexyl) phthalate | 1/1/87
118-74-1 | Hexachlorobenzene | 1/1/87
119-90-4 | 3,3′-Dimethoxybenzidine | 1/1/87
119-93-7 | 3,3′-Dimethylbenzidine | 1/1/87
120-12-7 | Anthracene | 1/1/87
120-36-5 | 2,4-DP (Dichlorprop) | 1/1/95
120-58-1 | Isosafrole | 1/1/90
120-71-8 | p-Cresidine | 1/1/87
120-80-9 | Catechol | 1/1/87
120-82-1 | 1,2,4-Trichlorobenzene | 1/1/87
120-83-2 | 2,4-Dichlorophenol | 1/1/87
121-14-2 | 2,4-Dinitrotoluene | 1/1/87
121-44-8 | Triethylamine | 1/1/95
121-69-7 | N,N-Dimethylaniline | 1/1/87
121-75-5 | Malathion | 1/1/95
122-34-9 | Simazine | 1/1/95
122-39-4 | Diphenylamine | 1/1/95
122-66-7 | 1,2-Diphenylhydrazine | 1/1/87
123-31-9 | Hydroquinone | 1/1/87
123-38-6 | Propionaldehyde | 1/1/87
123-63-7 | Paraldehyde | 1/1/94
123-72-8 | Butyraldehyde | 1/1/87
123-91-1 | 1,4-Dioxane | 1/1/87
124-40-3 | Dimethylamine | 1/1/95
124-73-2 | Dibromotetrafluoroethane (1,2-Dibromo-1,1,2,2-tetrafluoroethane) | 7/8/90
126-72-7 | Tris(2,3-dibromopropyl) phosphate | 1/1/87
126-98-7 | Methacrylonitrile | 1/1/94
126-99-8 | Chloroprene | 1/1/87
127-18-4 | Tetrachloroethylene | 1/1/87
128-03-0 | Potassium dimethyldithiocarbamate | 1/1/95
128-04-1 | Sodium dimethyldithiocarbamate | 1/1/95
128-66-5 | C.I. Vat Yellow 4 | 1/1/87
131-11-3 | Dimethyl phthalate | 1/1/87
131-52-2 | Sodium pentachlorophenate | 1/1/95
132-27-4 | Sodium o-phenylphenoxide | 1/1/95
132-64-9 | Dibenzofuran | 1/1/87
133-06-2 | Captan | 1/1/87
133-07-3 | Folpet | 1/1/95
133-90-4 | Chloramben | 1/1/87
134-29-2 | o-Anisidine hydrochloride | 1/1/87
134-32-7 | alpha-Naphthylamine (1-Naphthalenamine) | 1/1/87
135-20-6 | Cupferron | 1/1/87
136-45-8 | Dipropyl isocinchomeronate | 1/1/95
137-26-8 | Thiram | 1/1/94
137-41-7 | Potassium N-methyldithiocarbamate | 1/1/95
137-42-8 | Metham sodium (Sodium methyldithiocarbamate) | 1/1/95
138-93-2 | Disodium cyanodithioimidocarbonate | 1/1/95
139-13-9 | Nitrilotriacetic acid | 1/1/87
139-65-1 | 4,4′-Thiodianiline | 1/1/87
140-88-5 | Ethyl acrylate | 1/1/87
141-32-2 | Butyl acrylate | 1/1/87
142-59-6 | Nabam | 1/1/95
148-79-8 | Thiabendazole | 1/1/95
149-30-4 | 2-Mercaptobenzothiazole | 1/1/95
150-50-5 | Merphos | 1/1/95
150-68-5 | Monuron | 1/1/95
151-56-4 | Ethyleneimine (Aziridine) | 1/1/87
156-10-5 | p-Nitrosodiphenylamine | 1/1/87
156-62-7 | Calcium cyanamide | 1/1/87
191-24-2 | Benzo[g,h,i]perylene | 1/1/00
298-00-0 | Methyl parathion | 1/1/95
300-76-5 | Naled | 1/1/95
301-12-2 | Oxydemeton-methyl | 1/1/95
302-01-2 | Hydrazine | 1/1/87
306-83-2 | 2,2-Dichloro-1,1,1-trifluoroethane (HCFC-123) | 1/1/94
309-00-2 | Aldrin | 1/1/87
314-40-9 | Bromacil | 1/1/95
319-84-6 | alpha-Hexachlorocyclohexane | 1/1/95
330-54-1 | Diuron | 1/1/95
330-55-2 | Linuron | 1/1/95
333-41-5 | Diazinon | 1/1/95
334-88-3 | Diazomethane | 1/1/87
353-59-3 | Bromochlorodifluoromethane (Halon 1211) | 7/8/90
354-11-0 | 1,1,1,2-Tetrachloro-2-fluoroethane (HCFC-121a) | 1/1/95
354-14-3 | 1,1,2,2-Tetrachloro-1-fluoroethane (HCFC-121) | 1/1/95
354-23-4 | 1,2-Dichloro-1,1,2-trifluoroethane (HCFC-123a) | 1/1/94
354-25-6 | 1-Chloro-1,1,2,2-tetrafluoroethane (HCFC-124a) | 1/1/94
357-57-3 | Brucine | 1/1/95
422-44-6 | 1,2-Dichloro-1,1,2,3,3-pentafluoropropane (HCFC-225bb) | 1/1/95
422-48-0 | 2,3-dichloro-1,1,1,2,3-pentafluoropropane (HCFC-225ba) | 1/1/95
422-56-0 | 3,3-Dichloro-1,1,1,2,2-pentafluoropropane (HCFC-225ca) | 1/1/95
431-86-7 | 1,2-Dichloro-1,1,3,3,3-pentafluoropropane (HCFC-225da) | 1/1/95
460-35-5 | 3-Chloro-1,1,1-trifluoropropane (HCFC-253fb) | 1/1/95
463-58-1 | Carbonyl sulfide | 1/1/87
465-73-6 | Isodrin | 1/1/95
492-80-8 | C.I. Solvent Yellow 34 (Auramine) | 1/1/87
505-60-2 | Mustard gas | 1/1/87
507-55-1 | 1,3-Dichloro-1,1,2,2,3-pentafluoropropane (HCFC-225cb) | 1/1/95
509-14-8 | Tetranitromethane | 1/1/11
510-15-6 | Chlorobenzilate | 1/1/87
528-29-0 | o-Dinitrobenzene | 1/1/90
532-27-4 | 2-Chloroacetophenone | 1/1/87
533-74-4 | Dazomet | 1/1/95
534-52-1 | 4,6-Dinitro-o-cresol | 1/1/87
540-59-0 | 1,2-Dichloroethylene | 1/1/87
541-41-3 | Ethyl chloroformate | 1/1/87
541-53-7 | 2,4-Dithiobiuret (Dithiobiuret) | 1/1/95
541-73-1 | 1,3-Dichlorobenzene (m-Dichlorobenzene) | 1/1/87
542-75-6 | 1,3-Dichloropropylene (1,3-Dichloropropene) | 1/1/87
542-76-7 | 3-Chloropropionitrile | 1/1/95
542-88-1 | Bis(chloromethyl) ether | 1/1/87
554-13-2 | Lithium carbonate | 1/1/95
556-52-5 | Glycidol | 1/1/11
556-61-6 | Methyl isothiocyanate | 1/1/95
563-47-3 | 3-Chloro-2-methyl-1-propene | 1/1/95
569-64-2 | C.I. Basic Green 4 (Malachite green) | 1/1/87
584-84-9 | Toluene-2,4-diisocyanate | 1/1/87
593-60-2 | Vinyl bromide | 1/1/87
594-42-3 | Perchloromethyl mercaptan | 1/1/95
606-20-2 | 2,6-Dinitrotoluene | 1/1/87
608-93-5 | Pentachlorobenzene | 1/1/00
612-82-8 | 3,3′-Dimethylbenzidine dihydrochloride | 1/1/95
612-83-9 | 3,3′-Dichlorobenzidine dihydrochloride | 1/1/95
615-05-4 | 2,4-Diaminoanisole | 1/1/87
615-28-1 | 1,2-Phenylenediamine dihydrochloride | 1/1/95
621-64-7 | N-Nitrosodi-n-propylamine | 1/1/87
624-18-0 | 1,4-Phenylenediamine dihydrochloride | 1/1/95
624-83-9 | Methyl isocyanate | 1/1/87
630-20-6 | 1,1,1,2-Tetrachloroethane | 1/1/94
636-21-5 | o-Toluidine hydrochloride | 1/1/87
639-58-7 | Triphenyltin chloride | 1/1/95
680-31-9 | Hexamethylphosphoramide | 1/1/87
684-93-5 | N-Nitroso-N-methylurea | 1/1/87
709-98-8 | Propanil | 1/1/95
759-73-9 | N-Nitroso-N-ethylurea | 1/1/87
759-94-4 | S-Ethyl dipropylthiocarbamate | 1/1/95
764-41-0 | 1,4-Dichloro-2-butene | 1/1/94
812-04-4 | 1,1-Dichloro-1,2,2-trifluoroethane (HCFC-123b) | 1/1/94
834-12-8 | Ametryn | 1/1/95
842-07-9 | C.I. Solvent Yellow 14 | 1/1/87
872-50-4 | N-Methyl-2-pyrrolidone | 1/1/95
924-16-3 | N-Nitrosodi-n-butylamine | 1/1/87
924-42-5 | N-Methylolacrylamide | 1/1/95
957-51-7 | Diphenamid | 1/1/95
961-11-5 | Tetrachlorvinphos | 1/1/87
989-38-8 | C.I. Basic Red 1 | 1/1/87
1114-71-2 | Pebulate | 1/1/95
1120-71-4 | 1,3-Propane sultone | 1/1/87
1134-23-2 | Cycloate | 1/1/95
1163-19-5 | Decabromodiphenyl oxide | 1/1/87
1313-27-5 | Molybdenum trioxide | 1/1/87
1314-20-1 | Thorium dioxide | 1/1/87
1319-77-3 | Cresol (mixed isomers) | 1/1/87
1320-18-9 | 2,4-D propylene glycol butyl ether ester (2,4-D 2-butoxymethylethyl ester) | 1/1/95
1330-20-7 | Xylene (mixed isomers) | 1/1/87
1332-21-4 | Asbestos (friable) | 1/1/87
1335-87-1 | Hexachloronaphthalene | 1/1/87
1336-36-3 | Polychlorinated biphenyls | 1/1/87
1344-28-1 | Aluminum oxide (fibrous forms) (Alumina) | 1/1/87
1464-53-5 | Diepoxybutane | 1/1/87
1563-66-2 | Carbofuran | 1/1/95
1582-09-8 | Trifluralin | 1/1/87
1634-04-4 | Methyl tert-butyl ether | 1/1/87
1649-08-7 | 1,2-Dichloro-1,1-difluoroethane (HCFC-132b) | 1/1/95
1689-84-5 | Bromoxynil | 1/1/95
1689-99-2 | Bromoxynil octanoate | 1/1/95
1717-00-6 | 1,1-Dichloro-1-fluoroethane (HCFC-141b) | 1/1/94
1836-75-5 | Nitrofen | 1/1/87
1861-40-1 | Benfluralin | 1/1/95
1897-45-6 | Chlorothalonil | 1/1/87
1910-42-5 | Paraquat dichloride | 1/1/95
1912-24-9 | Atrazine | 1/1/95
1918-00-9 | Dicamba | 1/1/95
1918-02-1 | Picloram | 1/1/95
1918-16-7 | Propachlor | 1/1/95
1928-43-4 | 2,4-D 2-ethylhexyl ester | 1/1/95
1929-73-3 | 2,4-D 2-butoxyethyl ester | 1/1/95
1929-82-4 | Nitrapyrin | 1/1/95
1937-37-7 | C.I. Direct Black 38 | 1/1/87
1982-69-0 | Sodium dicamba | 1/1/95
1983-10-4 | Tributyltin fluoride | 1/1/95
2032-65-7 | Methiocarb | 1/1/95
2155-70-6 | Tributyltin methacrylate | 1/1/95
2164-07-0 | Dipotassium endothall | 1/1/95
2164-17-2 | Fluometuron | 1/1/87
2212-67-1 | Molinate | 1/1/95
2234-13-1 | Octachloronaphthalene | 1/1/87
2300-66-5 | Dimethylamine dicamba | 1/1/95
2303-16-4 | Diallate | 1/1/87
2303-17-5 | Triallate | 1/1/95
2312-35-8 | Propargite | 1/1/95
2439-01-2 | Chinomethionate | 1/1/95
2439-10-3 | Dodine | 1/1/95
2524-03-0 | Dimethyl chlorothiophosphate | 1/1/95
2602-46-2 | C.I. Direct Blue 6 | 1/1/87
2655-15-4 | 2,3,5-Trimethylphenyl methylcarbamate | 1/1/95
2699-79-8 | Sulfuryl fluoride | 1/1/95
2702-72-9 | 2,4-D sodium salt | 1/1/95
2832-40-8 | C.I. Disperse Yellow 3 | 1/1/87
2837-89-0 | 2-Chloro-1,1,1,2-tetrafluoroethane (HCFC-124) | 1/1/94
2971-38-2 | 2,4-D chlorocrotyl ester | 1/1/95
3118-97-6 | C.I. Solvent Orange 7 | 1/1/87
3296-90-0 | 2,2-Bis(bromomethyl)-1,3-propanediol | 1/1/11
3383-96-8 | Temephos | 1/1/95
3653-48-3 | Methoxone sodium salt | 1/1/95
3761-53-3 | C.I. Food Red 5 | 1/1/87
4080-31-3 | 1-(3-Chloroallyl)-3,5,7-triaza-1-azoniaadamantane chloride | 1/1/95
4170-30-3 | Crotonaldehyde | 1/1/95
4549-40-0 | N-Nitrosomethylvinylamine | 1/1/87
4680-78-8 | C.I. Acid Green 3 | 1/1/87
5234-68-4 | Carboxin | 1/1/95
5598-13-0 | Chlorpyrifos-methyl | 1/1/95
5902-51-2 | Terbacil | 1/1/95
6459-94-5 | C.I. Acid Red 114 | 1/1/95
7287-19-6 | Prometryn | 1/1/95
7429-90-5 | Aluminum (fume or dust) | 1/1/87
7439-92-1 | Lead | 1/1/87
7439-96-5 | Manganese | 1/1/87
7439-97-6 | Mercury | 1/1/87
7440-02-0 | Nickel | 1/1/87
7440-22-4 | Silver | 1/1/87
7440-28-0 | Thallium | 1/1/87
7440-36-0 | Antimony | 1/1/87
7440-38-2 | Arsenic | 1/1/87
7440-39-3 | Barium | 1/1/87
7440-41-7 | Beryllium | 1/1/87
7440-43-9 | Cadmium | 1/1/87
7440-47-3 | Chromium | 1/1/87
7440-48-4 | Cobalt | 1/1/87
7440-50-8 | Copper | 1/1/87
7440-62-2 | Vanadium (except when contained in an alloy) | 1/1/00
7440-66-6 | Zinc (fume or dust) | 1/1/87
7550-45-0 | Titanium tetrachloride | 1/1/87
7632-00-0 | Sodium nitrite | 1/1/95
7637-07-2 | Boron trifluoride | 1/1/95
7647-01-0 | Hydrochloric acid (acid aerosols including mists, vapors, gas, fog, and other airborne forms of any particle size) | 1/1/87
7664-39-3 | Hydrogen fluoride (Hydrofluoric acid) | 1/1/87
7664-41-7 | Ammonia (includes anhydrous ammonia and aqueous ammonia from water dissociable ammonium salts and other sources; 10 percent of total aqueous ammonia is reportable under this listing) | 1/1/87
7664-93-9 | Sulfuric acid (acid aerosols including mists, vapors, gas, fog, and other airborne forms of any particle size) | 1/1/87
7696-12-0 | Tetramethrin | 1/1/95
7697-37-2 | Nitric acid | 1/1/87
7726-95-6 | Bromine | 1/1/95
7758-01-2 | Potassium bromate | 1/1/95
7782-41-4 | Fluorine | 1/1/95
7782-49-2 | Selenium | 1/1/87
7782-50-5 | Chlorine | 1/1/87
7783-06-4 | Hydrogen sulfide | 1/1/94
7786-34-7 | Mevinphos | 1/1/95
7803-51-2 | Phosphine | 1/1/95
8001-35-2 | Toxaphene | 1/1/87
8001-58-9 | Creosote | 1/1/90
9006-42-2 | Metiram | 1/1/95
10028-15-6 | Ozone | 1/1/95
10034-93-2 | Hydrazine sulfate (1:1) | 1/1/87
10049-04-4 | Chlorine dioxide | 1/1/87
10061-02-6 | trans-1,3-Dichloropropene | 1/1/95
10222-01-2 | 2,2-Dibromo-3-nitrilopropionamide¹ | 1/1/95
10294-34-5 | Boron trichloride | 1/1/95
10453-86-8 | Resmethrin | 1/1/95
12122-67-7 | Zineb | 1/1/87
12185-10-3 | Phosphorus (yellow or white) | 1/1/87
12427-38-2 | Maneb | 1/1/87
13194-48-4 | Ethoprop | 1/1/95
13356-08-6 | Fenbutatin oxide | 1/1/95
13463-40-6 | Iron pentacarbonyl | 1/1/95
13474-88-9 | 1,1-Dichloro-1,2,2,3,3-pentafluoropropane (HCFC-225cc) | 1/1/95
13684-56-5 | Desmedipham | 1/1/95
14484-64-1 | Ferbam | 1/1/95
15972-60-8 | Alachlor | 1/1/95
16071-86-6 | C.I. Direct Brown 95 | 1/1/87
16543-55-8 | N-Nitrosonornicotine | 1/1/87
17804-35-2 | Benomyl | 1/1/95
19044-88-3 | Oryzalin | 1/1/95
19666-30-9 | Oxadiazon | 1/1/95
20325-40-0 | 3,3′-Dimethoxybenzidine dihydrochloride | 1/1/95
20354-26-1 | Methazole | 1/1/95
20816-12-0 | Osmium tetroxide | 1/1/87
20859-73-8 | Aluminum phosphide | 1/1/95
21087-64-9 | Metribuzin | 1/1/95
21725-46-2 | Cyanazine | 1/1/95
22781-23-3 | Bendiocarb | 1/1/95
23564-05-8 | Thiophanate-methyl | 1/1/95
23564-06-9 | Thiophanate-ethyl | 1/1/95
23950-58-5 | Pronamide | 1/1/94
25311-71-1 | Isofenphos | 1/1/95
25321-14-6 | Dinitrotoluene (mixed isomers) | 1/1/90
25321-22-6 | Dichlorobenzene (mixed isomers) | 1/1/87
25376-45-8 | Diaminotoluene (mixed isomers) (Toluenediamine) | 1/1/87
26002-80-2 | Phenothrin | 1/1/95
26471-62-5 | Toluene diisocyanate (mixed isomers) | 1/1/90
26628-22-8 | Sodium azide | 1/1/95
26644-46-2 | Triforine | 1/1/95
27314-13-2 | Norflurazon | 1/1/95
28249-77-6 | Thiobencarb | 1/1/95
28407-37-6 | C.I. Direct Blue 218 | 1/1/95
28434-00-6 | d-trans-Allethrin | 1/1/95
29082-74-4 | Octachlorostyrene | 1/1/00
29232-93-7 | Pirimiphos-methyl | 1/1/95
30560-19-1 | Acephate | 1/1/95
31218-83-4 | Propetamphos | 1/1/95
33089-61-1 | Amitraz | 1/1/95
34014-18-1 | Tebuthiuron | 1/1/95
34077-87-7 | Dichlorotrifluoroethane | 1/1/94
35367-38-5 | Diflubenzuron | 1/1/95
35400-43-2 | Sulprofos | 1/1/95
35554-44-0 | Imazalil | 1/1/95
35691-65-7 | 1-Bromo-1-(bromomethyl)-1,3-propanedicarbonitrile | 1/1/95
38727-55-8 | Diethatyl ethyl | 1/1/95
39156-41-7 | 2,4-Diaminoanisole sulfate | 1/1/87
39300-45-3 | Dinocap | 1/1/95
39515-41-8 | Fenpropathrin | 1/1/95
40487-42-1 | Pendimethalin | 1/1/95
41198-08-7 | Profenofos | 1/1/95
41766-75-0 | 3,3′-Dimethylbenzidine dihydrofluoride | 1/1/95
42874-03-3 | Oxyfluorfen | 1/1/95
43121-43-3 | Triadimefon | 1/1/95
50471-44-8 | Vinclozolin | 1/1/95
51235-04-2 | Hexazinone | 1/1/95
51338-27-3 | Diclofop methyl | 1/1/95
51630-58-1 | Fenvalerate | 1/1/95
52645-53-1 | Permethrin | 1/1/95
53404-19-6 | Bromacil, lithium salt | 1/1/95
53404-37-8 | 2,4-D 2-ethyl-4-methylpentyl ester | 1/1/95
53404-60-7 | Dazomet, sodium salt | 1/1/95
55290-64-7 | Dimethipin | 1/1/95
55406-53-6 | 3-Iodo-2-propynyl butylcarbamate | 1/1/95
57213-69-1 | Triclopyr-triethylammonium salt | 1/1/95
59669-26-0 | Thiodicarb | 1/1/95
60168-88-9 | Fenarimol | 1/1/95
60207-90-1 | Propiconazole | 1/1/95
62476-59-9 | Acifluorfen, sodium salt | 1/1/95
63938-10-3 | Chlorotetrafluoroethane | 1/1/94
64902-72-3 | Chlorsulfuron | 1/1/95
64969-34-2 | 3,3′-Dichlorobenzidine sulfate | 1/1/95
66441-23-4 | Fenoxaprop-ethyl | 1/1/95
67485-29-4 | Hydramethylnon | 1/1/95
68085-85-8 | Cyhalothrin | 1/1/95
68359-37-5 | Cyfluthrin | 1/1/95
69409-94-5 | Fluvalinate | 1/1/95
69806-50-4 | Fluazifop-butyl | 1/1/95
71751-41-2 | Abamectin | 1/1/95
72178-02-0 | Fomesafen | 1/1/95
72490-01-8 | Fenoxycarb | 1/1/95
74051-80-2 | Sethoxydim | 1/1/95
76578-14-8 | Quizalofop-ethyl | 1/1/95
77501-63-4 | Lactofen | 1/1/95
82657-04-3 | Bifenthrin | 1/1/95
88671-89-0 | Myclobutanil | 1/1/95
90454-18-5 | Dichloro-1,1,2-trifluoroethane | 1/1/94
90982-32-4 | Chlorimuron-ethyl | 1/1/95
101200-48-0 | Tribenuron-methyl | 1/1/95
111512-56-2 | 1,1-Dichloro-1,2,3,3,3-pentafluoropropane (HCFC-225eb) | 1/1/95
111984-09-9 | 3,3′-Dimethoxybenzidine monohydrochloride | 1/1/95
127564-92-5 | Dichloropentafluoropropane | 1/1/95
128903-21-9 | 2,2-Dichloro-1,1,1,3,3-pentafluoropropane (HCFC-225aa) | 1/1/95
136013-79-1 | 1,3-Dichloro-1,1,2,3,3-pentafluoropropane (HCFC-225ea) | 1/1/95
¹ The listing of 2,2-dibromo-3-nitrilopropionamide (CAS No. 10222-01-2) is stayed. The stay will remain in effect until further administrative action is taken.

(c) * * *

BILLING CODE 6560-50-P

* * * * *

[FR Doc. 2020-11013 Filed 7-13-20; 8:45 am]

BILLING CODE 6560-50-C